DEPARTMENT OF THE INTERIOR

Fish and Wildlife Service

Natural Gas Pipeline Right-of-Way Permit Application To Cross Roanoke River National Wildlife Refuge

AGENCY: Fish and Wildlife Service, Department of the Interior.

ACTION: Notice.

SUMMARY: This Notice advises the public that Eastern North Carolina Natural Gas, has applied for a right-of-way permit for the installation of a twelve (12)-inch outer-diameter natural gas pipeline across 8.5 acres of Roanoke River National Wildlife Refuge in Bertie County, North Carolina, described as follows: A right-of-way with a total width of twenty (20) feet on, over, across, and through that part of the Roanoke River National Wildlife lying and being in Bertie County, North Carolina. The proposed route is within the existing Department of Transportation right-of-way.

The proposed pipeline will cross approximately 3.5 miles of refuge lands between Windsor and Williamston, North Carolina. Commencing at the Northern entrance to the refuge running along the highway to the Roanoke River.

The purpose of the notice is to inform the public that the United States Fish and Wildlife Service is currently considering the merits of approving this application.

DATES: Interested persons desiring to comment on this application should do so within thirty (30) days following the date of publication of this notice.

ADDRESSES: If you wish to comment, you may submit comments by any one of several methods. You may mail comments to Regional Director, U.S. Fish and Wildlife Service, 1875 Century Boulevard, Room 400, Atlanta, Georgia 30345. You may also comment via the Internet to Roger_Beckham@fws.gov. Please submit Internet comments as an ASCII file avoiding the use of special characters and any form of encryption. Please also include “Attn: Roger Beckham” and your name and return address in your Internet message. If you do not receive a confirmation from the system that we have received your Internet message, contact us at U.S. Fish and Wildlife Service, Division of Realty, Roger Beckham, 1-800-419-9582. Finally, you may hand deliver comments to Regional Director, U.S. Fish and Wildlife Service, 1875 Century Boulevard, Suite 400, Atlanta, Georgia 30345. Our practice is to make comments, including names and home addresses of respondents, available for public review during regular business hours. Individual respondents may request that we withhold their home address from the rulemaking record, which we will honor to the extent allowable by law. There also may be circumstances in which we would withhold from the rulemaking record a respondent's identity, as allowable by law. If you wish to withhold your name and/or address, you must state this prominently at the beginning of your comment. However, we will not consider anonymous comments. We will make all submissions from organizations or businesses, and from individuals identifying themselves as representatives or officials of organizations or businesses, available for public inspection in their entirety.

FOR FURTHER INFORMATION CONTACT: Roger Beckham, Chief, Realty Branch-East, at the above Atlanta, Georgia, address or call (404) 679-7204 or FAX (404) 679-7273.

Right-of-way applications are filed in accordance with section 28 of the Mineral Leasing Act of 1920 (41 Stat. 449:30 U.S.C. 185), as amended by Public Law 93-153. Additionally, 50 CFR 29.21-9f requires this Agency to publish Notices in the Federal Register.

Dated: October 15, 2002.
Sam D. Hamilton,
Regional Director.

[FR Doc. 02-27793 Filed 10-31-02; 8:45 am]

BILLING CODE 4310-55-M